TENNESSEE VALLEY AUTHORITY

Sunshine Act Meeting

Agency Holding the Meeting: Tennessee Valley Authority (Meeting No. 1535).

Time and Date: 9 a.m. (CDT), October 24, 2001.

Place: Jackson State Community College, McWherter Building—Ayers Auditorium, 2046 North Parkway, Jackson, Tennessee.

Status: Open.

Agenda

Approval of minutes of meeting held on September 19, 2001.

New Business

A—Budget and Financing

A1. Fiscal year 2001 Financial Review and Asset Valuation Recommendation.

A2. Retention of Net Power Proceeds and Nonpower Proceeds and Payments to the U.S. Treasury.

C—Energy

C1. Delegation of authority to the Vice President of Fuel Supply and Engineering Services to award a term contract to Crounse Corporation for barging services to Paradise Fossil Plant.

C2. Term coal contract with U.S. Coal, Inc., for coal supply to Kingston Fossil Plant.

C3. Contract with ALSTOM Power, Inc., to provide for the design, engineering, fabrication, and supply of boiler pressure parts and components for Bull Run Fossil Plant.

C4. Supplement to Contract No. 1601 with Braden Manufacturing, L.L.C., for design, supply, and installation of replacement inlet air duct systems on TVA-owned General Electric combustion turbines at Colbert and Johnsonville combustion turbine sites.

F—Other

F1. Approval to file condemnation cases to acquire transmission line easement rights-of-way and the right to enter affecting Tract No. KD2, Kemper-DeKalb Transmission Line in Kemper County, Mississippi, and Tract Nos. SWM-1000TE, 1001TE, and 1003TE, Sweetwater-Madisonville Transmission Line in Monroe County, Tennessee.

Information Items

1. Supplement to contract for communication services with Media South LLC.

2. Delegation of authority to arrange for third-party long-term financing for energy services contracts through sales of accounts receivable.

3. Implementation of the results of negotiations with the Engineering Association, Inc., over compensation for Fiscal Years 2001 and 2002.

4. Manager and Specialist and Excluded Schedule annual performance award budget and pay band structure adjustment.

5. Negotiated pay adjustments for Fiscal Year 2002 for SA and SB employees represented by the Office and Professional Employees International Union.

6. Pay benefits for TVA employees called to active duty.

7. TVA contribution to the TVA Retirement System for Fiscal Year 2002.

8. Sale of an exclusive and transferable permanent easement for future development of a medical technology corridor for the City of Johnson City, Tennessee.

9. Amendments to the Rules and Regulations of the TVA Retirement System and to the provisions of the TVA Savings and Deferral Retirement Plan (401(k) Plan).

For more information: Please call TVA Media Relations at (865) 632-6000, Knoxville, Tennessee. Information is also available at TVA's Washington Office (202) 898-2999. People who plan to attend the meeting and have special needs should call (865) 632-6000.

Dated: October 17, 2001.
Maureen H. Dunn,
General Counsel and Secretary.

[FR Doc. 01-26706 Filed 10-18-01; 3:39 pm]

BILLING CODE 8120-08-M